DEPARTMENT OF LABOR

Employment and Training Administration

[TA-W-81,047, TA-W-81,047A]

ERA Systems, LLC, Formerly ERA Systems Corporation, a Subsidiary of Systems Research and Applications Corporation, 6647 Old Thompson Road, Syracuse, NY; ERA Systems, LLC, Formerly ERA Systems Corporation, a Subsidiary of Systems Research and Applications Corporation, 6712 Brooklawn Parkway, Suite 106, Syracuse, NY; Notice of Revised Determination on Reconsideration

The initial investigation, initiated on November 2, 2011, resulted in a negative determination, issued on January 13, 2012. The determination was applicable to workers and former workers of Era Systems, LLC, formerly Era Systems Corporation, a subsidiary of Systems Research and Applications Corporation, Syracuse, New York. The notice of the Affirmative Determination Regarding the Application for Reconsideration was published in the Federal Register on February 28, 2012 (77 FR 12080).

During the reconsideration investigation, the Department clarified the worker group. Specifically, the Department determined that the subject worker group consists of workers and former workers of Era Systems, LLC, formerly Era Systems Corporation, a subsidiary of Systems Research and Applications Corporation, 6647 Old Thompson Road, Syracuse, New York (TA-W-81,047) and Era Systems, LLC, formerly Era Systems Corporation, a subsidiary of Systems Research and Applications Corporation, 6712 Brooklawn Parkway, Suite 106, Syracuse, New York (TA-W-81,047A). Both locations are engaged in activities related to the supply of research and development services for air traffic components and software used for tracking and transmitting flight-related data.

To support the request for reconsideration, the petitioner supplied additional information regarding a possible shift to/acquisition from a foreign country by the subject firm in the supply of like or directly competitive services.

Based on information provided during the reconsideration investigation, the Department determines that worker separations at the subject firm are related to a shift in the supply of research and development services (or like or directly competitive services) to a foreign country and that the shift in the supply of research and development services (or like or directly competitive services) contributed importantly to the worker separations at both 6647 Old Thompson Road, Syracuse, New York and 6712 Brooklawn Parkway, Suite 106, Syracuse, New York locations.

Conclusion

After careful review of the additional facts obtained on reconsideration, I determine that workers of Era Systems, LLC, formerly Era Systems Corporation, a subsidiary of Systems Research and Applications Corporation, 6647 Old Thompson Road, Syracuse, New York (TA-W-81,047) and Era Systems, LLC, formerly Era Systems Corporation, a subsidiary of Systems Research and Applications Corporation, 6712 Brooklawn Parkway, Suite 106, Syracuse, New York (TA-W-81,047A), who were engaged in employment related to the supply of research and development services for air traffic components and software used for tracking and transmitting flight-related data, meet the worker group certification criteria under Section 222(a) of the Act, 19 U.S.C. 2272(a). In accordance with Section 223 of the Act, 19 U.S.C. 2273, I make the following certification:

All workers of Era Systems, LLC, formerly Era Systems Corporation, a subsidiary of Systems Research and Applications Corporation, 6647 Old Thompson Road, Syracuse, New York (TA-W-81,047) and Era Systems, LLC, formerly Era Systems Corporation, a subsidiary of Systems Research and Applications Corporation, 6712 Brooklawn Parkway, Suite 106, Syracuse, New York (TA-W-81,047A) who became totally or partially separated from employment on or after February 13, 2010, through two years from the date of certification, and all workers in the group threatened with total or partial separation from employment on the date of certification through two years from the date of certification, are eligible to apply for adjustment assistance under Chapter 2 of Title II of the Trade Act of 1974, as amended.

Signed at Washington, DC, this 26th day of June, 2012.
Del Min Amy Chen,
Certifying Officer, Office of Trade Adjustment Assistance.

[FR Doc. 2012-16736 Filed 7-9-12; 8:45 am]

BILLING CODE 4510-FN-P